NUCLEAR REGULATORY COMMISSION

Consolidated Guidance About Materials Licenses: Program-Specific Guidance About Licenses Authorizing Distribution to General Licensees

AGENCY: Nuclear Regulatory Commission (NRC).

ACTION: Notice of availability of final NUREG.

SUMMARY: The NRC is announcing the availability of the final NUREG-1556, Volume 16, “Consolidated Guidance about Materials Licenses: Program-Specific Guidance about Licenses Authorizing Distribution to General Licensees,” dated December 2000.

The NRC is using Business Process Redesign techniques to redesign its material licensing process, as described in NUREG-1539, “Methodology and Findings of the NRC's Materials Licensing Process Redesign.” A critical element of the new process is consolidating and updating numerous guidance documents into a NUREG-series of reports. This final NUREG report is the sixteenth program-specific guidance developed to support an improved materials licensing process.

This final NUREG has been developed in parallel with the final rulemaking on 10 CFR parts 30, 31, 32, 170, and 171, “Requirements for Certain Generally Licensed Industrial Devices Containing Byproduct Material.” The final rule was published in the Federal Register on December 18, 2000 (65 FR 79161). This guidance is intended for use by applicants, licensees, NRC license reviewers, and other NRC personnel.

A free single copy of final NUREG-1556, Volume 16, may be requested by writing to the U.S. Nuclear Regulatory Commission, ATTN: Mrs. Carrie Brown, Mail Stop TWFN 9-F-31, Washington, DC 20555-0001. Alternatively, submit requests through the Internet by addressing electronic mail to cxb@nrc.gov. A copy of the final NUREG-1556, Volume 16, is also available for inspection and/or copying for a fee in the NRC Public Document Room, 11555 Rockville Pike, Room 01-F21, Rockville, Maryland 20852.

FOR FURTHER INFORMATION, CONTACT: Mrs. Carrie Brown, Mail Stop TWFN 9-F-31, Division of Industrial and Medical Nuclear Safety, Office of Nuclear Material Safety and Safeguards, U.S. Nuclear Regulatory Commission, Washington, DC 20555, telephone (301) 415-8092; electronic mail address: cxb@nrc.gov.

Electronic Access

Final NUREG-1556, Vol. 16 is available electronically by visiting NRC's Home Page (http://www.nrc.gov/NRC/nucmat.html).

Dated at Rockville, Maryland, this 31st day of January, 2001.
For the Nuclear Regulatory Commission.
Patricia K. Holahan,
Chief, Rulemaking and Guidance Branch, Division of Industrial and Medical Nuclear Safety, NMSS.

[FR Doc. 01-3135 Filed 2-6-01; 8:45 am]

BILLING CODE 7590-01-P